DEPARTMENT OF COMMERCE

International Trade Administration

[Application No. 97-13A03]

Export Trade Certificate of Review

ACTION: Notice of issuance of an amended Export Trade Certificate of Review to the Association for the Administration of Rice Quotas, Inc. (“AARQ”), Application No. (97-13A03).

SUMMARY: The Secretary of Commerce, through the Office of Trade and Economic Analysis (“OTEA”), issued an amended Export Trade Certificate of Review to AARQ of Delaware on April 11, 2016.

FOR FURTHER INFORMATION CONTACT: Joseph E. Flynn, Director, Office of Trade and Economic Analysis, International Trade Administration, by telephone at (202) 482-5131 (this is not a toll-free number) or email at etca@trade.gov.

SUPPLEMENTARY INFORMATION: Title III of the Export Trading Company Act of 1982 (15 U.S.C. Sections 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325 (2016).

OTEA is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

AARQ's Export Trade Certificate of Review has been amended to make the following changes to the list of Members covered by the Certificate:

1. Deleting the following Members from its Certificate:

a. Family & Sons, Inc., Miami, Florida

b. Noble Logistics USA, Inc., Portland, Oregon

c. Rickmers Rice USA, Inc., Knoxville, Tennessee

d. Texana Rice, Inc., Louise, Texas

2. Changing Nishimoto Trading Co., Ltd., Santa Fe Springs, California (a subsidiary of Nishimoto Trading Company, Ltd. (Japan) to Nishimoto Trading Co., Ltd. dba Wismettac Asian Foods, Santa Fe Springs, California (a subsidiary of Nishimoto Trading Company, Ltd. (Japan).

3. Changing PS International, LLC dba PS International Ltd., Chapel Hill, North Carolina (jointly owned by Seaboard Corporation, Kansas City, Missouri and PS Trading Inc., Chapel Hill, North Carolina) to Interra International, LLC, Chapel Hill, North Carolina.

4. Changing TRC Trading Corporation, Roseville, California (a subsidiary of TRC Group Inc., Roseville, California) and its subsidiary Gulf Rice Arkansas II, LLC, Houston, Texas to TRC Trading Corporation, Roseville, California (a subsidiary of TRC Group Inc., Roseville, California) and its subsidiary Gulf Rice Arkansas II, LLC, Crawfordsville, Arkansas.

5. Changing Veetee Rice, Inc., Great Neck, New York (a subsidiary of Veetee Investments Corporation (Bahamas)) to Veetee Foods Inc., Islandia, New York (a subsidiary of Veetee Investments Corporation (Bahamas)).

AARQ's amendment of its Export Trade Certificate of Review results in the following entities as Members under the Certificate:

1. ADM Latin, Inc., Decatur, Illinois, ADM Grain Company, Decatur, Illinois, and ADM Rice, Inc., Tarrytown, New York (subsidiaries of Archer Daniels Midland Company).

2. American Commodity Company, LLC, Williams, California.

3. Associated Rice Marketing Cooperative (ARMCO), Richvale, California.

4. Bunge Milling, Saint Louis, Missouri (a subsidiary of Bunge North America, White Plains, New York), dba PIRMI (Pacific International Rice Mills), Woodland, California.

5. Cargill Americas, Inc., and its subsidiary CAI Trading, LLC, Coral Gables, Florida.

6. Farmers' Rice Cooperative, Sacramento, California.

7. Farmers Rice Milling Company, Inc., Lake Charles, Louisiana.

8. Far West Rice, Inc., Durham, California.

9. Gulf Pacific Rice Co., Inc., Houston, Texas; Gulf Rice Milling, Inc., Houston, Texas; and Harvest Rice, Inc., McGehee, Arkansas (each a subsidiary of Gulf Pacific, Inc., Houston, Texas).

10. Gulf Pacific Disc, Inc., Houston, Texas.

11. Itochu International Inc., Portland, Oregon (a subsidiary of Itochu Corporation (Japan)).

12. Interra International, LLC, Chapel Hill, North Carolina.

13. JFC International Inc., Los Angeles, California (a subsidiary of Kikkoman Corp.).

14. JIT Products, Inc., Davis, California.

15. Kennedy Rice Dryers, L.L.C., Mer Rouge, Louisiana.

16. Kitoku America, Inc., Burlingame, California (a subsidiary of Kitoku Shinryo Co., Ltd. (Japan)).

17. LD Commodities Rice Merchandising LLC, Wilton, Connecticut, and LD Commodities Interior Rice Merchandising LLC, Kansas City, Missouri (subsidiaries of Louis Dreyfus Commodities LLC, Wilton, Connecticut).

18. Louisiana Rice Mill, LLC, Mermentau, Louisiana.

19. Nidera US LLC, Wilton, Connecticut (a subsidiary of Nidera BV (Netherlands)).

20. Nishimoto Trading Co., Ltd. dba Wismettac Asian Foods, Santa Fe Springs, California (a subsidiary of Nishimoto Trading Company, Ltd. (Japan).

21. Producers Rice Mill, Inc., Stuttgart, Arkansas.

22. Riceland Foods, Inc., Stuttgart, Arkansas.

23. Riviana Foods Inc., Houston, Texas (a subsidiary of Ebro Foods, S.A. (Spain)), for the activities of itself and its subsidiary, American Rice, Inc., Houston, Texas.

24. Sinamco Trading Inc., Minneapolis, Minnesota.

25. SunFoods LLC, Woodland, California.

26. SunWest Foods, Inc., Davis, California.

27. The Sun Valley Rice Co., LLC, Arbuckle, California.

28. TRC Trading Corporation, Roseville, California (a subsidiary of TRC Group Inc., Roseville, California) and its subsidiary Gulf Rice Arkansas II, LLC, Crawfordsville, Arkansas.

29. Trujillo & Sons, Inc., Miami, Florida.

30. Veetee Foods Inc., Islandia, New York (a subsidiary of Veetee Investments Corporation (Bahamas)).

31. Wehah Farm, Inc., dba Lundberg Family Farms, Richvale, California.

No change is has been made regarding the Export Trade, Export Trade Activities or Methods of Operation covered by the Certificate.

The amended Certificate of Review is effective from January 11, 2016, the date on which the application for an amendment was deemed submitted.

Dated: May 3, 2016.
Joseph E. Flynn,
Director, Office of Trade and Economic Analysis.

[FR Doc. 2016-10711 Filed 5-5-16; 8:45 am]

BILLING CODE 3510-DR-P